ENVIRONMENTAL PROTECTION AGENCY

40 CFR Part 52

[EPA-R02-OAR-2023-0252; FRL-11034-03-R2]

Approval of Air Quality Implementation Plans; New Jersey; Exemptions To Improve Resiliency, Air Toxics Thresholds, PM2.5 and Ammonia Emission Statement Reporting, and PM2.5 in Air Permitting; Correction

AGENCY: Environmental Protection Agency.

ACTION: Final rule; correction.

SUMMARY: The Environmental Protection Agency (EPA) is correcting a final rule that appeared in the Federal Register on November 28, 2023. The document issues a final rule approving adoptions, repeals, and amendments to the New Jersey State Implementation Plan (SIP), submitted by the New Jersey Department of Environmental Protection (NJDEP) on December 17, 2017, and August 23, 2018, that concern exemptions to improve resiliency during emergency situations, updates to hazardous air pollutant (HAP) reporting thresholds, updates to the certification and submission of emission statements, the addition of Federal New Source Review (NSR) requirements for fine particles (PM2.5), and conform administrative penalties to the approved rules and correct inconsistencies throughout the State's SIP. This correction addresses errors in the amendatory instructions published on November 28, 2023.

DATES: This rule is effective on December 28, 2023.

FOR FURTHER INFORMATION CONTACT: Nicholas Ferreira, Air Programs Branch, Environmental Protection Agency, Region 2, 290 Broadway, 25th Floor, New York, New York 10007-1866, (212) 637-3127, or by email at ferreira.nicholas@epa.gov.

SUPPLEMENTARY INFORMATION: In FR Doc. 2023-26022, appearing at 88 FR 83036 in the Federal Register of Tuesday, November 28, 2023, the following corrections are made:

§ 52.1570 [Corrected]

1. On page 83038, in the third column, amendment 2.a. for § 52.1570 is corrected to read “a. Removing the entry for “Title 7, Chapter 27, Sections 8.1 and 8.2”;”.

2. On page 83038, in the third column, amendment 2.c. for § 52.1570 is corrected to read “c. Revising the entries for “Title 7, Chapter 27, Subchapter 16”, “Title 7, Chapter 27, Subchapter 17”, “Title 7, Chapter 27, Subchapter 18”, “Title 7, Chapter 27, Subchapter 19”, “Title 7, Chapter 27, Subchapter 21”, and “Title 7, Chapter 27A, Subchapter 3, Section 3.10”.”.

3. On pages 83038-83039, the table in § 52.1570(c) is corrected to read:

§ 52.1570 [Corrected]

(c) * * *

EPA-Approved New Jersey State Regulations and Laws
State citation | Title/subject | State effective date | EPA approval date | Comments
* * * * * * *
Title 7, Chapter 27, Section 8.1 | Definitions | January 16, 2018 | November 28, 2023, 88 FR 83036 |
Title 7, Chapter 27, Section 8.2 | Applicability | June 20, 1994 | August 7, 1997, 62 FR 42412 |
* * * * * * *
Title 7, Chapter 27, Subchapter 16 | Control and Prohibition of Air Pollution by Volatile Organic Compounds | January 16, 2018 | November 28, 2023, 88 FR 83036 |
Title 7, Chapter 27, Subchapter 17 | Control and Prohibition of Air Pollution by Toxic Substances | January 16, 2018 | November 28, 2023, 88 FR 83036 |
Title 7, Chapter 27, Subchapter 18 | Control and Prohibition of Air Pollution from New or Altered Sources Affecting Ambient Air Quality (Emission Offset Rules) | November 6, 2017 | November 28, 2023, 88 FR 83036 |
Title 7, Chapter 27, Subchapter 19 | Control and Prohibition of Air Pollution by Oxides of Nitrogen | January 16, 2018 | November 28, 2023, 88 FR 83036 | Subchapter 19 is approved into the SIP except for the following provisions: (1) Phased compliance plan through repowering in section 19.21 that allows for implementation beyond May 1, 1999; and (2) phased compliance plan through the use of innovative control technology in section 19.23 that allows for implementation beyond May 1, 1999.
Title 7, Chapter 27, Subchapter 21 | Emission Statements | January 16, 2018 | November 28, 2023, 88 FR 83036 | Section 7:27-21.3(b)(1) and 7:27-21.3(b)(2) of New Jersey's Emission Statement rule requires facilities to report on the following pollutants to assist the State in air quality planning needs: Hydrochloric acid, hydrazine, methylene chloride, tetrachloroethylene, 1, 1, 1 trichloroethane, carbon dioxide and methane. EPA will not take SIP-related enforcement action on these pollutants.
* * * * * * *
Title 7, Chapter 27A, Subchapter 3, Section 3.10 | Civil Administrative Penalties for Violations of Rules Adopted Pursuant to the Act | January 16, 2018 | November 28, 2023, 88 FR 83036 |
* * * * * * *

Lisa Garcia,
Regional Administrator, Region 2.

[FR Doc. 2023-27830 Filed 12-19-23; 8:45 am]

BILLING CODE 6560-50-P